FEDERAL MARITIME COMMISSION

Notice of Agreement(s) Filed

The Commission hereby gives notice of the filing of the following agreement(s) under the Shipping Act of 1984. Interested parties can review or obtain copies of agreements at the Washington, DC offices of the Commission, 800 North Capitol Street, NW., Room 940. Interested parties may submit comments on an agreement to the Secretary, Federal Maritime Commission, Washington, DC 20573, within 10 days of the date this notice appears in the Federal Register.

Agreement No.: 011786-001.

Title: Zim/Great Western Agreement.

Parties: Zim Israel Navigation Company Ltd. Great Western Steamship Company.

Synopsis: The proposed agreement modification expands the geographic scope to include Singapore, Japan, the U.S. Pacific Northwest, and the U.S. East Coast, revises Articles 5.1 through 5.4 to reflect the restructured cooperation of the parties, and extends the agreement through April 30, 2004. The modification also deletes obsolete language, corrects Great Western's address, and republishes the agreement in a second edition.

Dated: March 21, 2003.
By Order of the Federal Maritime Commission
Bryant L. VanBrakle,
Secretary.

[FR Doc. 03-7289 Filed 3-26-03; 8:45 am]

BILLING CODE 6730-01-P